ENVIRONMENTAL PROTECTION AGENCY

[OECA-2005-0014; FRL-7963-2]

Agency Information Collection Activities: Submission to OMB for Review and Approval; Comment Request; State Review Framework; EPA ICR Number 2185.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Under OMB regulations, the Agency may continue to conduct or sponsor the collection of information while this submission is pending at OMB. This ICR describes the nature of the information collection and its estimated burden and cost.

DATES: Comments must be submitted on or before September 30, 2005.

ADDRESSES: Submit your comments, referencing docket ID number OECA-2005-0014 to (1) EPA online using EDOCKET (our preferred method), by email to docket.oeca@epa.gov, or by mail to: EPA Docket Center, Environmental Protection Agency, OECA Docket, mail code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Arthur Horowitz, Office of Planning Policy Analysis and Communication, mail code 2201A, Environmental Protection Agency, 1200 Pennsylvania Ave., NW., Washington, DC 20460; telephone number: (202) 564-2612; fax number: (202) 564-0027; email address: horowitz.arthur@epa.gov.

SUPPLEMENTARY INFORMATION: EPA has submitted the following ICR to OMB for review and approval according to the procedures prescribed in 5 CFR 1320.12. On April 26, 2005 70 FR 21408, EPA sought comments on this ICR pursuant to 5 CFR 1320.8(d). EPA received one comment and has addressed the comment received.

EPA has established a public docket for this ICR under Docket ID number OECA-2005-0014, which is available for public viewing at the OECA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OECA Docket is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: State and local governments.

Title: State Review Framework.

Abstract: The State Review Framework (“Framework”) is an oversight tool designed to assess state performance in enforcement and compliance assurance. The Framework's goal is to evaluate state performance by examining existing data to provide a consistent level of oversight and develop a uniform mechanism by which EPA Regions, working collaboratively with their states, can ensure that state environmental agencies are consistently implementing the national compliance and enforcement program in order to meet agreed-upon goals. Furthermore, the Framework is designed to foster dialogue on enforcement and compliance performance between the states that will enhance relationships and increase feedback, which will in turn lead to consistent program management and improved environmental results.

Specifically, the Framework is a structured process that provides critical information on a state's (or Region's, for states with EPA-implemented programs) core enforcement and compliance assurance performance by employing existing data available in EPA's national databases and presented in management reports for each state. By the end of calendar year 2005 EPA expects to automate the management reports and make them available for the Regions and states to directly view and pull their own data. No new data collection is required for the national databases. Additional data will be obtained from the review of a state environmental agency's compliance and enforcement files. While no new data is required to be created in these files; they will be required to be provided and reviewed to ensure consistency with national standards in terms of documentation and performance. The states' participation in this process is mandatory.

The Framework process asks regions, states and local governments to examine existing data in three core programs: Clean Air Act (“CAA”), Stationary Sources; Clean Water Act (“CWA”), National Pollutant Discharge Elimination System (“NPDES”); and Resource Conservation and Recovery Act (“RCRA”), Subtitle C. The Framework evaluates twelve (12) primary elements, and a thirteenth optional element, using data and file review metrics. The utility of the Framework's metrics and the Implementation Guide are a direct result of the collaboration between states, Regions, Headquarters, and environmental leaders over the previous two years. These stakeholders provided extensive input and comments prior to both a pilot phase of the project, and in an evaluation of the pilots. The results of the evaluation of the Framework's pilot program was 14 main recommendations, which OECA and ECOS reviewed and used to establish work groups that were tasked with addressing those recommendations. The results of the evaluation of the Framework's pilot program have been used to improve the Framework and further ensure that it is narrowly crafted and will only collect information that satisfies the Agency's needs.

The thirteen (13) elements mentioned above are: (1) The degree to which a state program has completed the universe of planned inspections (addressing core requirements and Federal, state, and regional priorities); (2) The degree to which inspection reports and compliance reviews document inspection findings, including accurate descriptions of what was observed to sufficiently identify violation(s); (3) The degree to which inspection reports are completed in a timely manner, including timely identification of violations; (4) The degree to which significant violations (e.g., significant noncompliance and high-priority violations) and supporting information are accurately identified and reported to EPA's national databases in a timely manner; (5) The degree to which state enforcement actions include required corrective or complying actions (i.e., injunctive relief) that will return facilities to compliance in a specific time frame; (6) The degree to which a state takes timely and appropriate enforcement actions, in accordance with policy relating to specific media; (7) The degree to which a state includes both gravity and economic benefit calculations for all penalties, appropriately using the BEN model or similar state model (where in use and consistent with national policy); (8) The degree to which penalties in final enforcement actions collect appropriate economic benefit and gravity in accordance with applicable penalty procedures; (9) The degree to which enforcement commitments in the PPA/PPG/categorical grants (i.e., written agreements to deliver a product/project at a specified time), if they exist, are met and any products or projects are completed; (10) The degree to which the minimum data requirements are timely; (11) The degree to which the minimum data requirements are accurate; (12) The degree to which the minimum data requirements are complete, unless otherwise negotiated by the region and state or prescribed by a national initiative; and (13) (Optional) Other program activities (e.g., using outcome data, compliance assistance, self-disclosure programs, innovative approaches, etc.). In the interest of accuracy and efficiency, the Framework also includes a four-step protocol for managing the process: (1) Pre-review and offsite review; (2) onsite review; (3) drafting of the report; and (4) composing the final report and follow-up. After reviewing the level of performance based on metrics developed to support the 12 required performance elements, EPA will determine if a state or Region meets adequate performance levels.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 384 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 50 states.

Estimated Number of Respondents: 40.

Frequency of Response: one time over a three year period.

Estimated Total Annual Hour Burden: 5,122.

Estimated Total Annual Cost: $169,035 including $0 annualized capital or O&M costs.

Changes in the Estimates: N/A.

Dated: August 24, 2005.
Oscar Morales,
Director, Collection Strategies Division.

[FR Doc. 05-17361 Filed 8-30-05; 8:45 am]

BILLING CODE 6560-50-P